DEPARTMENT OF HEALTH AND HUMAN SERVICES

Centers for Disease Control and Prevention

[30-Day-12-0822]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7570 or send an email to omb@cdc.gov. Send written comments to CDC Desk Officer, Office of Management and Budget, Washington, DC or by fax to (202) 395-5806. Written comments should be received within 30 days of this notice.

Proposed Project

National Intimate Partner and Sexual Violence Survey (OMB No. 0920-0822, exp. 09/30/2012)—Revision—National Center for Injury Prevention and Control (NCIPC), Centers for Disease Control and Prevention (CDC).

Background and Brief Description

The health burden of Intimate Partner Violence (IPV), Sexual Violence (SV) and stalking are substantial. To address this important public health problem, in 2010, CDC implemented the National Intimate Partner and Sexual Violence Survey (NISVS) which produces national and state level estimates of IPV, SV and stalking on an annual basis.

NISVS uses a dual-frame sampling strategy that includes both landline and cell phone. In 2010, approximately 45.2% of interviews were conducted by landline telephone and 54.8% of interviews were conducted using respondent's cell phone. The overall weighted response rate for 2010 data collection was 27.5%. The weighted cooperation rate was 81.3%. The cooperation rate reflects the proportion who agreed to participate in the interview among those who were contacted and determined eligible. The cooperation rate obtained for 2010 data collection suggests that, once contact was made and eligibility was determined, the majority of respondents chose to participate in the interview.

In the first year of data collection, NISVS data indicated that approximately 6.9 million women and 5.6 million men experienced rape, physical violence and/or stalking by an intimate partner within the last year. NISVS data also suggested that 18.3% of women and 1.4% of men in the U.S. experienced rape in their lifetime. In addition, 44.5% of women and 22.2% of men experienced sexual violence other than rape during their lifetime. Approximately 5 million women and 1.4 million men in the United States were stalked in the 12 months prior to the survey.

There are also overlaps between stalking and other forms of violence experienced in intimate relationships; approximately 14% of females who were stalked by an intimate partner in their lifetime also experienced physical violence. Approximately 12% of female victims experienced rape, physical violence and stalking by a current or former intimate partner in their lifetime. Furthermore, 76% of female victims of intimate partner homicides were stalked by their partners before they were killed.

The lifetime impact of these types of violence on victims is extensive. Nearly 1 in 3 women and 1 in 10 men in the United States have experienced rape, physical violence and/or stalking by an intimate partner and reported at least one impact related to experiencing these or other forms of violent behavior within the relationship (e.g., fear, concern for safety, post-traumatic stress disorder (PTSD) symptom, injury, crisis hotline consult, at least one day of work or school missed, and needs for health care, housing, victim advocate, and legal services.)

CDC proposes to continue collecting national data that will provide more detailed and timely information on intimate partner violence, sexual violence and stalking victimization in the U.S. The proposed revision to the National Intimate Partner and Sexual Violence Survey (NISVS) involves no longer collecting data on special sub-populations (i.e. military, American Indian/Alaskan Native, elderly) and thus focusing the scope of data collection to the general population. The overarching purpose of the information collected has not changed.

A total of 73,318 eligible households will be screened annually; out of the households screened, approximately 58,318 will not consent or agree to participate and 15,000 will complete the survey each year. The survey will be conducted among English and/or Spanish speaking male and female adults (18 years and older) living in the United States.

There are no costs to respondents other than their time.

The total estimated annual burden hours are 9,916.

Estimated Annualized Burden Hours
Type of respondent | Form name | Number of responses | Number of responses per respondent | Average burden per response (in hours)
Households | Screened | 73,318 | 1 | 3/60
| Surveyed | 15,000 | 1 | 25/60

Dated: August 21, 2012.
Ron A. Otten,
Director, Office of Scientific Integrity (OSI), Office of the Associate Director for Science, Office of the Directors, Centers for Disease Control and Prevention.

[FR Doc. 2012-21022 Filed 8-24-12; 8:45 am]

BILLING CODE 4163-18-P